DEPARTMENT OF DEFENSE

Office of the Secretary

[Docket ID DoD-2022-OS-0033]

Submission for OMB Review; Comment Request

AGENCY: The Office of the Under Secretary of Defense for Personnel and Readiness (USD(P&R)), Department of Defense (DoD).

ACTION: 30-Day information collection notice.

SUMMARY: The DoD has submitted to the Office of Management and Budget (OMB) for clearance the following proposal for collection of information under the provisions of the Paperwork Reduction Act.

DATES: Consideration will be given to all comments received by February 13, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: Network of Support Pilot Program Survey; OMB Control Number 0704-NSPP.

Type of Request: New.

Number of Respondents: 75.

Responses per Respondent: 1.

Annual Responses: 75.

Average Burden per Response: 9 minutes.

Annual Burden Hours: 11.25.

Needs and Uses: The DoD and American Red Cross have entered into an agreement to encourage members of the Armed Forces to designate persons to receive information regarding the military service. These designated persons are made eligible to opt-in to receive a DoD Military OneSource Friends & Family Connection eNewsletter to provide a greater understanding of military life, military career progression, and resources available to service members and their families at various stages of military life. In accordance with National Defense Authorization Act 2020 SEC. 507E, the DoD, in consultation with the American Red Cross, shall administer a survey to persons who elected to receive information under the pilot program no later than two years after the date on which the pilot program commences. The purpose for the survey under review is to receive feedback regarding the quality of information disseminated to the designated recipients, including whether such information appropriately reflects the military career progression of members of the Armed Forces. The Network of Support Pilot Program Survey will collect information from friends and family members identified by active-duty service members or through self-identification via the American Red Cross Hero Network, who have opted-in to communications from the Military OneSource Friends & Family Connection eNewsletter. The survey is voluntary. Respondents who have opted-in to the program to receive the Military OneSource Friends & Family Connection eNewsletter have unique insight regarding the quality of information received from non-dependents.

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DoD Clearance Officer: Ms. Angela Duncan.

Requests for copies of the information collection proposal should be sent to Ms. Duncan at whs.mc-alex.esd.mbx.dd-dod-information-collections@mail.mil.

Dated: January 6, 2023.
Aaron T. Siegel,
Alternate OSD Federal Register Liaison Officer, Department of Defense.

[FR Doc. 2023-00458 Filed 1-11-23; 8:45 am]

BILLING CODE 5001-06-P